DEPARTMENT OF STATE

[Delegation of Authority No. 245-1]

Delegation From the Secretary to the Deputy Secretary and the Deputy Secretary for Management and Resources of Authorities of the Secretary of State

By virtue of the authority vested in me as Secretary of State by the laws of the United States, including 22 U.S.C. 2651a, I hereby delegate to the Deputy Secretary and the Deputy Secretary for Management and Resources, to the extent authorized by law, all authorities and functions vested in the Secretary of State or the head of agency by any act, order, determination, delegation of authority, regulation, or executive order, now or hereafter issued.

This Delegation includes all authorities and functions that have been or may be delegated or redelegated to other Department officials but does not repeal delegations to such officials.

Notwithstanding this delegation of authority, the Secretary of State may exercise any function or authority delegated by this delegation.

The Deputy Secretary or Deputy Secretary for Management and Resources may, to the extent consistent with law, (1) redelegate such functions and authorities and authorize their successive redelegation, and (2) promulgate such rules and regulations as may be necessary to carry out such functions.

This Delegation of Authority supersedes Delegation of Authority 245, dated April 23, 2001.

This memorandum shall be published in the Federal Register.

Dated: February 13, 2009.
Hillary Rodham Clinton,
Secretary of State, Department of State.

[FR Doc. E9-4142 Filed 2-25-09; 8:45 am]

BILLING CODE 4710-10-P